AGENCY FOR INTERNATIONAL DEVELOPMENT

Announcement of Draft Guidelines for Title II Cooperating Sponsor Results Reports and Resources Requests

Pursuant to the Agricultural Market and Transition Act of 1996 (Public Law 480, as amended), notice is hereby given that the Draft Guidelines for Title II Cooperating Sponsor Results Reports and Resource Requests are being made available to interested parties of the required thirty (30) day comment period.

Individuals who wish to receive a copy of these draft guidelines should contact: Office of Food for Peace, Agency for International Development, RRB 7.06-120, 1300 Pennsylvania Avenue, Washington, DC 20523-0809. Individuals who have questions or comments on the draft guidelines should contact Richard Newberg at the above address or at (202) 712-1828.

The thirty-day comment period will begin on the date that this announcement is published in the Federal Register.

Dated: October 13, 2000.
William T. Oliver,
Director, Office of Food for Peace Bureau for Humanitarian Response.

[FR Doc. 00-31674 Filed 12-13-00; 8:45 am]

BILLING CODE 6116-01-M